DEPARTMENT OF THE INTERIOR

Fish and Wildlife Service

50 CFR Part 17

Endangered and Threatened Wildlife and Plants; Notice of Reclassification of Nine Candidate Taxa

AGENCY: Fish and Wildlife Service, Interior.

ACTION: Notice of candidate taxa reclassification.

SUMMARY: We, the U.S. Fish and Wildlife Service (Service), provide explanation for a change in the status of one animal and eight plant taxa that were under review for possible addition to the Lists of Endangered and Threatened Wildlife and Plants (Lists) under the Endangered Species Act of 1973, as amended (Act). We are removing these nine species from candidate status at this time. Based on information gathered on all of these species, continuation of candidate status is no longer warranted.

DATES: We will accept comments on this notice at any time.

ADDRESSES: Comments and questions concerning this notice should be submitted to the Chief, Office of Conservation and Classification, Division of Endangered Species, U.S. Fish and Wildlife Service, 1849 C Street, NW., Mail Stop 420 ARLSQ, Washington, DC 20240.

FOR FURTHER INFORMATION CONTACT: Nancy Gloman, Chief, Office of Conservation and Classification, Division of Endangered Species, 703/358-2171.

SUPPLEMENTARY INFORMATION:

Background

The Endangered Species Act of 1973, as amended (Act) (16 U.S.C. 1531 et seq.), requires that we identify taxa of wildlife and plants that are endangered or threatened, based on the best available scientific and commercial information. As part of this program, we have maintained a list of taxa we regard as candidates for addition to the Lists. A candidate is one for which we have on file sufficient information on biological vulnerability and threats to support a proposal to list as endangered or threatened. Section 4(a)(1) of the Act requires us to examine five factors to determine whether a species should or should not be added to the Lists:

(A) The present or threatened destruction, modification, or curtailment of the species' habitat or range;

(B) Overutilization of the species for commercial, recreational, scientific, or educational purposes;

(C) Disease or predation affecting the species;

(D) The inadequacy of existing regulatory mechanisms to protect the species; and

(E) Other natural or manmade factors affecting the species' continued existence.

After review of these factors we are required to make a determination “solely on the basis of the best scientific and commercial data available” and “taking into account those efforts, if any, being made by any State or foreign nation, or any political subdivision of a State or foreign nation, to protect such species, whether by predator control, protection of habitat and food supply, or other conservation practices, within any area under its jurisdiction, or on the high seas.” Sections 4(a)(1) and 4(b)(1)(A) and our regulations at 50 CFR 424.11(f) require us to consider any State or local laws, regulations, ordinances, programs, or other specific conservation measures that either positively or negatively affect a species' status (i.e., efforts that create, exacerbate, reduce, or remove threats identified through the section 4(a)(1) analysis).

On October 25, 1999, we published our most recent annual review of all candidate taxa (64 FR 57534). As a result of our review, we determined that the following species should be removed from candidate status based on our evaluation of the five factors listed above. This notice provides specific explanations for the reclassification of one animal and eight plant taxa.

It is important to note that candidate assessment is an ongoing function and changes in status should be expected. If we remove taxa from the candidate list, they may be restored to candidate status if additional information supporting such a change becomes available to us. We issue requests for such information in a Candidate Notice of Review published in the Federal Register every year.

Findings

The McCloud River redband trout (Oncorhynchus mykiss ssp.) is native to the McCloud River system in northern California. The species was considered to warrant a proposal to list as threatened due to habitat degradation, recreational fishing, and stocking of hatchery fish. In December 1998, a Conservation Agreement and Strategy was completed and signed in a collaborative effort between Federal and State agencies, private industry, and private citizens. Implementation of the Conservation Strategy will reduce threats to the McCloud River redband trout, such as fish stocking, recreational fishing, stream barriers, and land management activities that degrade the species habitat. The strategy delineates a refugium to be managed specifically for the protection and enhancement of redbands and their habitat and provides for the development of a watershed improvement plan to address sedimentation, bank stabilization, barrier development or removal, riparian restoration, and habitat enhancement. The strategy also provides for the monitoring of grazing and timber practices; closing of roads; fencing of streams; and the development of flood and drought contingency plans. Based on this information, continuation of candidate status for this species is not warranted.

Calochortus umpquaensis (Umpqua mariposa lily) was described by Fredericks in 1989 in Douglas County, Oregon (Fredericks 1989a). Fourteen populations are known from an area of about 80.4 square kilometers (km) (50 square miles (mi)), with four located on Bureau of Land Management (BLM) lands. Recent estimates place the number of plants extant on BLM lands on Ace Williams Mountain between 400,000 to 800,000 individuals. Earlier population estimates were 120,000 to 140,000 individuals (Fredericks 1989b, 1992). A Conservation Agreement among the BLM, the Forest Service (FS), and the Fish and Wildlife Service was signed on April 4, 1996. The agreement is being implemented, and populations appear stable and larger than previously thought. The threats of timber harvest and cattle grazing are being addressed. Based on this information, continuation of candidate status for this species is not warranted.

Eriogonum argophyllum (Sulphur Springs buckwheat) consists of 3,700 to 5,000 individuals restricted to approximately 8 hectares (ha) (20 acres (ac)) of private land on the mound of Sulphur Hot Springs in northern Ruby Valley, Elko County, Nevada. The species was considered to warrant a proposal to list as threatened due to large-scale disturbance associated with geothermal and other land or resource development, including diversion of surface water and lowering of the water table. The threat of geothermal development has been eliminated. We are aware of no proposals for geothermal or other development of the Sulphur Hot Springs site at this time, nor do we have any indication that proposals will be made in the foreseeable future. In addition the area is fenced which will protect against off-highway vehicle activity and impacts from livestock. The Sulphur Springs buckwheat is protected by the State of Nevada as “critically endangered,” and the Nevada Division of Forestry (NDF) does monitor any potentially harmful activities at or near the Sulphur Hot Springs site and would require habitat protection and other mitigation, as appropriate, prior to issuing any permits to allow any disturbance of the species. Based on this information, no current and no foreseeable threats can be identified to the population. Therefore the continuation of candidate status for this species is not warranted.]

Lathyrus biflorus (two-flowered lathyrus) is known only from Red Mountain in northern Humboldt County, California. Our best available information indicates that no current and no foreseeable threats can be identified to the population and that much adjacent potential habitat remains uninventoried. We previously had reason to believe that the property would likely be developed. However, given that the area is remote and has many access problems, immediate and future development of the parcel is not likely. The California Department of Fish and Game and the California Department of Forestry and Fire Protection are aware of the species and intend to protect its habitat. Based on this information, no current and no foreseeable threats can be identified to the population. Therefore the continuation of candidate status for this species is not warranted.

Silene campanulata ssp. campanulata (Red Mountain campion (or catchfly)) occurs in chaparral and lower coniferous forests on the mostly eastern side of the northern Coast Mountain Range, California. Local agency botantists have determined that populations of Silene found on BLM and FS lands are a subspecies of Silene other than Silene campanulata ssp. campanulata. At this time, the expert for this species maintains that the standing of the taxon, Silene campanulata ssp. campanulata, is doubtful and that certain collections are intermediates (hybrids) between Silene campanulata ssp. campanulata and Silene campanulata ssp. glanulosa. Originally the subspecies was thought to be restricted to Red Mountain in Mendocino County, California, where subsurface and surface mining of nickel and cobalt threaten two populations. Since 1980, additional populations have been discovered. Beginning in 1993, as many as seven additional populations were documented. No documentation of any threats to the newly discovered populations and the uncertain taxonomic status have led us to discontinue candidate status for this species. Therefore, at this time we do not have on file sufficient information on biological vulnerability and threats to support a proposal to list as endangered or threatened.

Cimicifuga arizonica (Arizona bugbane) is an herbaceous perennial plant that occurs in mixed-conifer and high-elevation riparian deciduous forests and is known only from National Forest lands in central Arizona, within Coconino and Gila Counties. The species was primarily considered threatened due to activities, such as livestock grazing and timber harvest, that reduce canopy closure and destroy shaded areas that the species needs for survival. The three National Forests that contain all known populations of this species have developed conservation strategies adequate to protect the species. The Forest Service completed its conservation strategy in 1993 and updated it in 1999 for the Tonto National Forest; in 1995, the Forest Service completed a conservation assessment and strategy for the Coconino and Kaibab National Forests. These strategies have become part of a 1999 conservation agreement between the Forest Service and us that will ensure the survival and conservation of the species. Based on this information, no current and no foreseeable threats can be identified to the population. Therefore the continuation of candidate status for this species is not warranted.

Zanthoxylum parvum (Shinner's tickle-tongue) is a plant member of the oak-maple complex community understory and was known only from 2 populations (each containing less than 20 small individuals, all male) in the Davis Mountains, in arid west Texas. Recently we received reports from The Nature Conservancy of Texas and from Dr. Jim Zechs, Sul Ross University, that several additional sites have been found, including some female plants. Dr. Zechs now believes that the total number of sites is between seven and nine. We do not have any further information, however, on locality and population status for these new sites. The Nature Conservancy of Texas has recently acquired significant new lands in the area, and has secured conservation easements on others, which may improve conservation for the species. The biological, threat, and conservation information appears to be substantially changed for this species; based on this information, continuation of candidate status for this species is not warranted.

Arabis pusilla (small rock-cress) is endemic (native) to Wyoming, occurring within the southern Wind River Mountains. The species was only recently discovered and is known from a single documented population and type locality estimated at approximately 1,000 plants scattered over a 64.8-ha (160-ac) area. Lands containing A. pussila are completely under BLM jurisdiction. Adverse impacts to the plant and its habitat were occurring until 1994 when BLM approved the A. pusilla Habitat Management Plan (HMP). At that time, BLM implemented an emergency closure of the Habitat Management Area to all mechanized and nonmotorized vehicle use, and in 1996 constructed a cattle exclosure fence around the habitat. The 1998 Green River Resource Management Plan designated the area as a Plant Area of Critical Environmental Concern, and provides a no-surface-occupancy stipulation for oil and gas development. Although A. pussila is still rare, BLM's activities in approving and implementing the HMP have served to reduce or eliminate the threats facing this species and ensures the survival and conservation of the species. Based on this information, continuation of candidate status for this species is not warranted.

Allium gooddingii (Goodding's onion) is an herbaceous perennial plant occurring most frequently in drainage bottoms associated with perennial, intermittent streams, and on moist, north-facing slopes of mature mixed-conifer and spruce-fir forests. A. gooddingii is found on lands in the Apache-Sitgreaves, Coronado, Lincoln, and Gila National Forests. Habitat destruction and modification from logging, road construction, and grazing were considered the primary threats to the species. A 1998 conservation agreement between the FS and us ensures the continued survival and conservation of A. gooddingii. Some components of the agreement that reduce or eliminate threats to the onion include maintaining the canopy cover and avoiding ground disturbance and erosion during timber harvesting activities in and near occupied sites, prohibiting new livestock structures that would attract grazing ungulates to occupied sites, and prohibiting or redesigning new roads and trails found to adversely affect the onion. Based on this information, continuation of candidate status for this species is not warranted.

We have removed the taxa listed below from the candidate list. However, we did not provide an explanation for their change in status in this notice, since we published this information previously in the Federal Register on the dates given:

Clematis hirsutissma var. arizonica (Arizona leatherflower), January 9, 1998 (63 FR 1418); Astragalus oophorus var. clokeyanus (Clokey's egg-vetch), Castilleja elongata (tall paintbrush), Dalea tentaculoides (Gentry's indigobush), Pediocactus paradinei (Kaibab plains cactus), April 2, 1998 (63 FR16217); Columbia spotted frog (Wasatch front population and West Desert population) (Rana luteiventris), April 2, 1998 (63 FR 16218); Florida black bear (Ursus americanus floridanus), December 8, 1998 (63 FR 67613); Lesquerella stonensis (Stones River bladderpod May 11, 1999 (64 FR 25216).

Author

This notice was compiled from materials supplied by staff biologists located in the Service's regional and field offices. The materials were compiled by Susan Jacobsen, Division of Endangered Species (see ADDRESSES section).

Authority: The authority for this action is the Endangered Species Act of 1973, as amended, 16 U.S.C. 1531 et seq.

Dated: October 13, 2000.
Jamie Rappaport Clark,
Director, U.S. Fish and Wildlife Service.

[FR Doc. 00-26968 Filed 10-19-00; 8:45 am]

BILLING CODE 4310-55-U